FEDERAL COMMUNICATIONS COMMISSION

[DA 11-1527]

Video Programming and Accessibility Advisory Committee; Announcement of Date of Next Meeting

AGENCY: Federal Communications Commission.

ACTION: Notice.

SUMMARY: This document announces the next meeting of the Video Programming Accessibility Advisory Committee (“Committee” or “VPAAC”). The November meeting will continue to develop recommendations to the Commission regarding video description, and the delivery of video description, access to emergency programming, and the interoperability and user interface of the equipment used to deliver video programming, as required in the Twenty-First Century Communications and Video Accessibility Act of 2010 (CVAA).

DATES: The Committee's next meeting will take place on Tuesday, November 1, 2011, 9 a.m. to 5 p.m. (EST), at the headquarters of the Federal Communications Commission (FCC).

ADDRESSES: Federal Communications Commission, 445 12th Street, SW., Commission Meeting Room, Washington, DC 20554.

FOR FURTHER INFORMATION CONTACT: Pam Gregory, Consumer and Governmental Affairs Bureau, 202-418-2498 (voice), 202-418-1169 (TTY), or Pam.Gregory@fcc.gov (e-mail); or Alison Neplokh, Media Bureau, 202-418-1083, Alison.Neplokh@fcc.gov (e-mail).

SUPPLEMENTARY INFORMATION: On December 7, 2010, in document DA-2320, Chairman Julius Genachowski announced the establishment and appointment of members of the VPAAC, following a nominations period that closed on November 1, 2010. All meetings of the VPAAC shall be open to the public. The purpose of the VPAAC is to develop recommendations on closed captioning of Internet programming previously captioned on television; the compatibility between video programming delivered using Internet protocol and devices capable of receiving and displaying such programming in order to facilitate access to captioning, video description and emergency information; video description and accessible emergency information on television programming delivered using Internet protocol or digital broadcast television; accessible user interfaces on video programming devices; and accessible programming guides and menus. Within six (6) months of its first meeting, the VPAAC submitted recommendations concerning the provision of closed captions for Internet-delivered video programming and the ability of video devices to pass through closed captions contained on Internet-based video programming. By April 8, 2012, the VPAAC shall submit recommendations on the remaining issues listed above. At the November 1, 2011 VPAAC meeting, members will continue to develop recommendations to the Commission regarding video description, and the delivery of video description, access to emergency programming, and the interoperability and user interface of the equipment used to deliver video programming.

To request materials in accessible formats for people with disabilities (Braille, large print, electronic files, audio format), send an e-mail to fcc504@fcc.gov or call the Consumer and Governmental Affairs Bureau at (202) 418-0530 (voice), (202) 418-0432 (TTY).

Federal Communications Commission.
Karen Peltz Strauss,
Deputy Chief, Consumer and Governmental Affairs Bureau.

[FR Doc. 2011-24015 Filed 9-16-11; 8:45 am]

BILLING CODE 6712-01-P